DEPARTMENT OF TRANSPORTATION

Federal Aviation Administration

Public Notice for Waiver of Aeronautical Land-Use Assurance

AGENCY: Federal Aviation Administration (FAA), DOT.

ACTION: Notice of intent of waiver with respect to land; Gaylord Regional Airport; Gaylord, Michigan.

SUMMARY: The Federal Aviation Administration (FAA) is considering a proposal to change a portion of airport land from aeronautical use to non-aeronautical use and to authorize the sale of airport property located at Gaylord Regional Airport, Gaylord, Michigan. The proposal consists of 12.38 acres of airport property for which the current use and present condition is the Libke Field recreational facility.

DATES: Comments must be received on or before March 2, 2015.

ADDRESSES: Documents are available for review by appointment at the FAA Detroit Airports District Office, 11677 South Wayne Road, Suite 107, Romulus, Michigan 48174 or at Gaylord Regional Airport, Gaylord, Michigan. Written comments on the Sponsor's request must be delivered or mailed to: Diane Morse, Program Manager, Detroit Airports District Office, Federal Aviation Administration, 11677 South Wayne Road, Suite 107, Romulus, Michigan 48174. Telephone Number: (734) 229-2929/FAX Number: (734) 229-2950.

FOR FURTHER INFORMATION CONTACT: Diane Morse, Program Manager, Detroit Airports District Office, Federal Aviation Administration, 11677 South Wayne Road, Suite 107, Romulus, Michigan 48174. Telephone Number: (734) 229-2929/FAX Number: (734) 229-2950.

SUPPLEMENTARY INFORMATION: In accordance with section 47107(h) of title 49, United States Code, this notice is required to be published in the Federal Register 30 days before modifying the land-use assurance that requires the property to be used for an aeronautical purpose.

Parcel 21 (0.83 acres) was acquired by Gaylord Regional Airport through the Airports Improvement Program dated January 6, 1992. Parcel 8 (11.55 acres) was purchased from the State of Michigan, Department of Conservation without federal funds on July 11, 1966. The Otsego County Board of Commissioners intends to purchase the property, at fair market value, for continued use as Libke Field recreational facility. The aforementioned land is not needed for aeronautical use, as shown on the Airport Layout Plan. There are no impacts to the airport by allowing the airport to dispose of the property. This notice announces that the FAA is considering the release of the subject airport property at Gaylord Regional Airport, from all federal land covenants. Approval does not constitute a commitment by the FAA to financially assist in the disposal of the subject airport property nor a determination that all measures covered by the program are eligible for grant-in-aid funding from the FAA. The disposition of proceeds from the sale of the airport property will be in accordance with FAA's Policy and Procedures Concerning the Use of Airport Revenue, published in the Federal Register on February 16, 1999 (64 FR 7696).

Following is a legal description of the property situated in the State of Michigan, County of Otsego, A combined parcel of land situated in the Township of Bagley, County of Otsego, State of Michigan, being part of the Northeast ¼ of the Northeast ¼ of Section 7, Town 30 North, Range 3 West, described as:

Commencing at the Northeast corner of said Section 7; thence North 88°42′30″ West, along the North line of said section, 146.04 feet to the Point of Beginning; thence South 00°33′57″ West 477.76 feet; thence North 88°58′17″ West 1119.09 feet; thence North 00°14′04″ West 483.03 feet to the North line of said section; thence South 88°42′30″ East, along said section line, 1125.89 feet to the Point of Beginning. Sold parcel contains 12.38 acres of land, more or less, and is subject to the right of way of Van Tyle Road over the northerly 33 feet thereof.

Issued in Detroit, Michigan, on January 12, 2015.
John L. Mayfield, Jr.,
Manager, Detroit Airports District Office, FAA, Great Lakes Region.

[FR Doc. 2015-01759 Filed 1-29-15; 8:45 am]

BILLING CODE 4910-13-P